NATIONAL TRANSPORTATION SAFETY BOARD

Public Hearing

The National Transportation Safety Board will convene a public hearing beginning at 9:30 a.m., local time on Wednesday, November 15-16, 2000, at the NTSB Board Room and Conference Center, 429 L'Enfant Plaza, S.W., Washington, D.C. 20024 concerning Pipeline Safety. For more information, contact Joseph Kris, NTSB Office of Pipeline and Hazardous Materials Safety at (202) 314-6539 or Keith Holloway, NTSB Office of Public Affairs at (202) 314-6100.

Individuals requesting specific accommodation should contact Mrs. Carolyn Dargan at (202) 314-6305 by Thursday, November 9, 2000.

Dated: November 6, 2000.
Rhonda Underwood,
Federal Register Liaison Officer.

[FR Doc. 00-28836 Filed 11-8-00; 8:45 am]

BILLING CODE 7533-01-M